DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Certification of Admissibility for Fishery Products.

OMB Control Number: 0648-0651.

Form Number(s): None.

Type of Request: Regular submission (extension of a current information collection).

Number of Respondents: 90 respondents annually filing 10 responses each.

Average Hours per Response: 0.17 hours (10 minutes).

Burden Hours: 150 hours annually.

Needs and Uses: This information is needed to confirm admissibility of certain seafood products when a nation is subject to trade restrictions imposed by the United States under the authority of the High Seas Driftnet Fishing Moratorium Protection Act or the Marine Mammal Protection Act.

Affected Public: Businesses or other for-profit organizations; foreign officials; Federal government.

Frequency: On each occasion of an export shipment of fish and fish products subject to the certification requirement.

Respondent's Obligation: The information is collected electronically at the time of entry filing in the Automated Commercial Environment (ACE) of U.S. Customs and Border Protection (CBP). The exporter completes information on the contents/origin of the fish products contained in the export shipment and obtains export government certification that the fish meet the U.S. admissibility criteria. Entry filers (importers or customs brokers) obtain the completed Certification of Admissibility from the exporter (attached to the shipment packaging or via email or fax) and upload the image file of the document to ACE via the Document Image System. CBP will release the shipment only when certification has been received.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-03509 Filed 2-27-19; 8:45 am]

BILLING CODE 3510-22-P